INTERNATIONAL TRADE COMMISSION

[Investigation No. 337-TA-997]

Certain Sleep-Disordered Breathing Treatment Systems and Components Thereof; Commission Determination Not To Review an Initial Determination Granting a Joint Motion To Terminate the Investigation in Its Entirety Based Upon Settlement

AGENCY: U.S. International Trade Commission.

ACTION: Notice.

SUMMARY: Notice is hereby given that the U.S. International Trade Commission has determined not to review the presiding administrative law judge's (“ALJ”) initial determination (“ID”) (Order No. 44) granting a joint motion to terminate the investigation in its entirety based upon settlement.

FOR FURTHER INFORMATION CONTACT: Panyin A Hughes, Office of the General Counsel, U.S. International Trade Commission, 500 E Street SW., Washington, DC 20436, telephone (202) 205-3042. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted Inv. No. 337-TA-997 on May 18, 2016, based on a complaint filed by ResMed Corporation of San Diego, California; ResMed Incorporated of San Diego, California; and ResMed Limited of New South Wales, Australia (collectively, “ResMed”). 81 FR 31255-56 (May 18, 2016). The complaint alleges violations of section 337 of the Tariff Act of 1930 (19 U.S.C. 1337) in the importation into the United States, the sale for importation, and the sale within the United States after importation of certain sleep-disordered breathing treatment systems and components thereof that infringe one or more claims of U.S. Patent No. RE44,453; U.S. Patent No. 8,006,691; U.S. Patent No. 8,020,551; and U.S. Patent No. 9,072,860. The notice of investigation named the following respondents: BMC Medical Co., Ltd. of Beijing, China; 3B Medical, Inc. of Lake Wales, Florida; and 3B Products, L.L.C., of Lake Wales, Florida (collectively “BMC”). The Office of Unfair Import Investigations (“OUII”) is not participating in the investigation.

On January 23, 2017, ResMed and BMC filed a joint motion to terminate the investigation in its entirety based upon settlement.

On January 24, 2017, the ALJ issued the subject ID, granting the joint motion to terminate the investigation in its entirety based upon settlement. The ALJ found that confidential and public copies of the settlement agreement were provided in compliance with the requirements of Commission Rule 210.21(b)(1) (19 CFR 210.21(b)(1)), and that terminating the investigation would not be contrary to the public interest.

The Commission has determined not to review the ID.

The authority for the Commission's determination is contained in section 337 of the Tariff Act of 1930, as amended (19 U.S.C. 1337), and in Part 210 of the Commission's Rules of Practice and Procedure (19 CFR part 210).

Issued: February 9, 2017.
By order of the Commission.
Lisa R. Barton,
Secretary to the Commission.

[FR Doc. 2017-02988 Filed 2-14-17; 8:45 am]

BILLING CODE 7020-02-P